INTERNATIONAL TRADE COMMISSION

Submission for OMB Review; Comment Request

AGENCY: United States International Trade Commission.

ACTION: Notice of proposed collection; comment request.

SUMMARY: The proposed information collection is a 3-year extension, pursuant to the Paperwork Reduction Act of 1995 (Pub. L. 104-13) (the “Act”), of the current generic survey clearance previously approved by the Office of Management and Budget (“OMB”). The clearance is used by the U.S. International Trade Commission (“Commission”) to issue information collections (specifically, producer, importer, purchaser, and foreign producer questionnaires and certain institution notices) for a series of import injury investigations that are required by the Tariff Act of 1930 and the Trade Act of 1974. The current generic survey clearance is assigned OMB control No. 3117-0016; it will expire on June 30, 2011. Comments concerning the proposed information collections are requested in accordance with section 3506(c)(2)(A) of the Act; such comments are described in greater detail in the section of this notice entitled SUPPLEMENTARY INFORMATION.

DATES: To be assured of consideration, written comments should be received no later than 60 days after publication of this in the Federal Register.

ADDRESSES: Signed comments should be submitted to James Holbein, Acting Secretary, U.S. International Trade Commission, 500 E St., SW., Washington, DC 20436.

FOR FURTHER INFORMATION CONTACT: Copies of the proposed collection of information and supporting documentation may be obtained from Jennifer Merrill (USITC, tel. no. 202-205-3188). Hearing-impaired persons can obtain information on this matter by contacting the Commission's TDD terminal on 202-205-1810. Persons with mobility impairments who will need special assistance in gaining access to the Commission should contact the Office of the Secretary at 202-205-2000. General information concerning the Commission may also be obtained by accessing its Internet server (http://www.usitc.gov).

SUPPLEMENTARY INFORMATION:

Request for Comments

Comments are solicited as to: (1) Whether the proposed information collection is necessary for the proper performance of the functions of the agency, including whether the information will have practical utility; (2) the accuracy of the agency's estimate of the burden of the proposed information collection, including the validity of the methodology and assumptions used; (3) the quality, utility, and clarity of the information to be collected; and (4) minimization of the burden of the proposed information collection on those who are to respond (including through the use of appropriate automated, electronic, mechanical, or other technological forms of information technology, e.g., permitting electronic submission of responses).

Summary of the Proposed Information Collections

(1) Need for the Proposed Information Collections

The information requested in questionnaires and five-year sunset review institution notices issued under the generic survey clearance is utilized by the Commission in the following statutory investigations: Antidumping duty, countervailing duty, escape clause, North American Free Trade Agreement (NAFTA) safeguard, market disruption, and interference with programs of the U.S. Department of Agriculture (USDA). The Commission's generic survey clearance to issue questionnaires will not apply to repetitive questionnaires such as those issued on a quarterly or annual basis or to other investigations and research studies conducted under section 332 of the Trade Act of 1974. The information provided by firms in response to the questionnaires provides the basis for the Commission's determinations in the above-cited statutory investigations. The submitted data are consolidated by Commission staff and provided to the Commission in the form of a staff report. In addition, in the majority of its investigations, the Commission releases completed questionnaires returned by industry participants to representatives of parties to its investigations under the terms of an administrative protective order, the terms of which safeguard the confidentiality of any business proprietary or business confidential information. Representatives of interested parties also receive a confidential version of the staff report under the administrative protective order. Subsequent party submissions to the Commission during the investigative process are based, in large part, upon their review of the information collected. Included in the proposed generic clearance are the institution notices for the five-year sunset reviews of antidumping and countervailing duty orders and suspended investigations. Responses to the institution notices will be evaluated by the Commission and form much of the record for its determinations to conduct either expedited or full five-year sunset reviews of existing antidumping and countervailing duty orders.

(2) Information Collection Plan

Questionnaires for specific investigations are sent to all identified domestic producers manufacturing the product(s) in question. Importer and purchaser questionnaires are also sent to all substantial importers/purchasers of the product(s). Finally, all foreign manufacturers of the product(s) in question that are represented by counsel are sent questionnaires, and, in addition, the Commission attempts to contact any other foreign manufacturers, especially if they export the product(s) in question to the United States. Firms receiving questionnaires include businesses, farms, and/or other for-profit institutions; responses are mandatory. The institution notices for the five-year sunset reviews are published in the Federal Register and solicit comment from interested parties (i.e., U.S. producers within the industry in question as well as labor unions or representative groups of workers, U.S. importers and foreign exporters, and involved foreign country governments).

(3) Description of the Information To Be Collected

Although the content of each questionnaire will differ based on the needs of a particular investigation, questionnaires are based on long-established, generic formats. Producer questionnaires generally consist of the following four parts: (part I) General questions relating to the organization and activities of the firm; (part II) data on capacity, production, inventories, employment, and the quantity and value of the firm's shipments and purchases from various sources; (part III) financial data, including income-and-loss data on the product in question, data on asset valuation, research and development expenses, and capital expenditures; and (part IV) pricing and market factors. (Questionnaires may, on occasion, also contain part V, an abbreviated version of the above-listed parts, used for gathering data on additional product categories.) Importer questionnaires generally consist of three parts: (part I) General questions relating to the organization and activities of the firm; (part II) data on the firm's imports and the shipment and inventories of its imports; and (part III) pricing and market factors similar to that requested in the producer questionnaire. Purchaser questionnaires generally consist of five parts: (part I) General questions relating to the organization and activities of the firm; (part II) data concerning the purchases of the product by the firm; (part III) market characteristics and purchasing practices; (part IV) comparisons between imported and U.S.-produced product; and (part V) actual purchase prices for specific types of domestic and subject imported products and the names of the firm's vendors. Foreign producer questionnaires generally consist of (part I) general questions relating to the organization and activities of the firm; (part II) data concerning the firm's manufacturing operations; and may include (part III) market factors. The notices of institution for the five-year sunset reviews include 11 specific requests for information that firms are to provide if their response is to be considered by the Commission.

(4) Estimated Burden of the Proposed Information Collection

The Commission estimates that information collections issued under the requested generic clearance will impose an average annual burden of 186,002 burden hours on 4,221 respondents (i.e., recipients that provide a response to the Commission's questionnaires or the notices of institution of five-year sunset reviews). Table 1 lists the projected annual burden for each type of information collection for the July 2011-June 2014 period.

(5) Minimization of Burden

The Commission periodically reviews its investigative processes, including data collection, to reduce the information burden. Questionnaires clearly state that estimates are acceptable for certain items. They are designed in part with check-in type formats to simplify the response. The reporting burden for smaller firms is reduced in that the sections of the questionnaire that are applicable to their operations are typically more limited. Requests by parties to expand the data collection or add items to the questionnaire for specific investigations may not be accepted if the Commission believes such requests will increase the response burden while not substantially adding to the investigative record. Completed questionnaires have traditionally been returned to the Commission in paper form, however the Commission is promoting options for electronic submission. For example, the Commission provides the questionnaires on the Commission's Web site in a fillable Word format and has created a secure drop box which questionnaire respondents can use to securely upload completed questionnaires. The information provided in response to its notices of institution for the five-year sunset reviews is typically submitted in document form directly to the Office of the Secretary although it may be submitted to the Commission's Electronic Data Information System (EDIS) and Electronic Docket.

Table 1—Projected Annual Burden Data, By Type of Information Collection, July 2008-June 2011
Item | Producer questionnaires | Importer questionnaires | Purchaser questionnaires | Foreign producer questionnaires | Institution notices for 5-year reviews | Total
Number of respondents | 751 | 1,279 | 988 | 1,119 | 84 | 4,221
Frequency of response | 1 | 1 | 1 | 1 | 1 | 1
Total annual responses | 751 | 1,279 | 988 | 1,119 | 84 | 4,221
Hours per response | 71.5 | 40.1 | 35.1 | 40.6 | 10.9 | 44.1
Total hours | 53,672 | 51,292 | 34,678 | 45,443 | 917 | 186,002

No record keeping burden is known to result from the proposed collection of information.

By order of the Commission.
Issued: February 18, 2011.
William R. Bishop,
Hearings and Meetings Coordinator.

[FR Doc. 2011-4438 Filed 2-28-11; 8:45 am]

BILLING CODE 7020-02-P